DEPARTMENT OF HOMELAND SECURITY

National Protection and Programs Directorate (NPPD), Office of Infrastructure Protection (OIP); Agency Information Collection Activities: Submission for OMB Review; Comment Request

AGENCY: DHS, NPPD, Office of Infrastructure Protection.

ACTION: Notice; 30-day notice and request for comments.

SUMMARY: The Department of Homeland Security (DHS), has submitted the following information collection to the Office of Management and Budget (OMB) for review and clearance in accordance with the requirements of the Paperwork Reduction Act of 1995 (Pub. L. 104-13, 44 U.S.C. Chapter 35). The information collection was previously published in the Federal Register on February 23, 2007, at 72 FR 8191 allowing for a 60-day public comment period. No comments were received on this information collection. The purpose of this notice is to allow an additional 30 days for public comments. The submission describes the nature of the information collection, the categories of respondents, the estimated burden (i.e., the time, effort and resources used by respondents to respond) and cost, and includes the actual data collection instruments DHS will use.

DATES: Comments are encouraged and will be accepted until July 13, 2007.

ADDRESSES: Interested persons are invited to submit written comments on the proposed information collection to the Office of Information and Regulatory Affairs, Office of Management Budget, Attention: Nathan Lesser, Desk Officer, Department of Homeland Security/NPPD and sent via electronic mail to oira_submission@omb.eop.gov or faxed to (202) 395-6974.

FOR FURTHER INFORMATION CONTACT: A copy of this ICR, with applicable supporting documentation, may be obtained by calling Nathan Lesser, Desk Officer, Department of Homeland Security, Washington, DC 20528; and sent via electronic mail to oira_submission@omb.eop.gov or faxed to (202) 395-6974 (this is not a toll free number).

SUPPLEMENTARY INFORMATION: Title: DHS Chemical Security Awareness Training Program (formerly the DHS Chemical Facility Security Training Program).

OMB Number: 1670-NEW.

Affected Public: Businesses or other for-profit.

Number of Respondents: 400,000.

Estimated Time per Respondent: 1 hour.

Estimated Total Annual Burden Hours: 400,000.

Frequency of Response: Annually.

The Chemical and Nuclear Preparedness and Protection Division (CNPPD) of the Office of Infrastructure Protection within NPPD, DHS is providing an on-line voluntary training program to improve security in the chemical industry sector. Information is automatically collected in a computer database as result of individuals engaging in the training. Data collection includes the number of participants, type of facility, location of facility, percentage completion of the training so that the participation of the training program can be assessed. Explicit reporting or recordkeeping is not required. The training is designed for the general chemical facility employee. U.S. chemical industry direct employment is about 882,000 (source: American Chemistry Council, data for 2004); approximately half of employees are estimated as potential participants. Estimated duration of training is 60 minutes in the first year, and less if individuals do “refreshers” in succeeding years. Upon completion, a Certificate of Completion is generated at the trainee's computer work station, printed and optionally e-mailed to a facility supervisor. DHS will monitor program participation, success in training and basic distribution variables submitted upon registration, but not personal identification, and may analyze and report to Federal supervisors, Congress, and the public periodically.

Charlie Church,
Chief Information Officer, National Protection and Programs Directorate, Department of Homeland Security.

[FR Doc. E7-11424 Filed 6-12-07; 8:45 am]

BILLING CODE 4410-10-P